DEPARTMENT OF HOMELAND SECURITY

[Docket No. CISA-2020-0015]

Notice of President's National Security Telecommunications Advisory Committee Meeting

AGENCY: Cybersecurity and Infrastructure Security Agency (CISA), Department of Homeland Security (DHS).

ACTION: Notice of meeting; request for comments.

SUMMARY: CISA is publishing this notice to announce the following President's National Security Telecommunications Advisory Committee (NSTAC) meeting. This meeting will be partially closed to the public.

DATES:

Meeting Registration: Registration to attend the meeting is required and must be received no later than 5:00 p.m. Eastern Time (ET) on November 5, 2020. For more information on how to participate, please contact NSTAC@cisa.dhs.gov.

Speaker Registration: Registration to speak during the meeting's public comment period must be received no later than 5:00 p.m. ET on November 5, 2020.

Written Comments: Written comments must be received no later than 5:00 p.m. ET on November 5, 2020.

Meeting Date: The NSTAC will meet on November 12, 2020, from 12:30 p.m. to 4:15 p.m. ET. The meeting may close early if the committee has completed its business.

ADDRESSES: The meeting will be held via conference call. For access to the conference call bridge, information on services for individuals with disabilities, or to request special assistance, please email NSTAC@cisa.dhs.gov by 5:00 p.m. ET on November 5, 2020.

Comments: Members of the public are invited to provide comment on the issues that will be considered by the committee as listed in the SUPPLEMENTARY INFORMATION section below. Associated materials that participants may discuss during the meeting will be available at https://www.cisa.gov/national-security-telecommunications-advisory-committee for review on October 28, 2020. Comments may be submitted by 5:00 p.m. ET on November 5, 2020 and must be identified by Docket Number CISA-2020-0015. Comments may be submitted by one of the following methods:

• Federal eRulemaking Portal: www.regulations.gov. Please follow the instructions for submitting written comments.

• Email: NSTAC@cisa.dhs.gov. Include the Docket Number CISA-2020-0015 in the subject line of the email.

Instructions: All submissions received must include the words “Department of Homeland Security” and the Docket Number for this action. Comments received will be posted without alteration to www.regulations.gov, including any personal information provided.

Docket: For access to the docket and comments received by the NSTAC, please go to www.regulations.gov and enter docket number CISA-2020-0015.

A public comment period will be held during the meeting from 3:15 p.m. to 3:25 p.m. ET. Speakers who wish to participate in the public comment period must register by emailing NSTAC@cisa.dhs.gov. Speakers are requested to limit their comments to three minutes and will speak in order of registration. Please note that the public comment period may end before the time indicated, following the last request for comments.

FOR FURTHER INFORMATION CONTACT: Sandra Benevides, 703-705-6232, sandra.benevides@cisa.dhs.gov.

SUPPLEMENTARY INFORMATION: The NSTAC was established by Executive Order (E.O.) 12382, 47 FR 40531 (September 13, 1982), as amended and continued under the authority of E.O. 13889, dated September 27, 2019. Notice of this meeting is given under FACA, 5 U.S.C. Appendix (Pub. L. 92-463). The NSTAC advises the President on matters related to national security and emergency preparedness (NS/EP), telecommunications and cybersecurity policy.

Agenda: The NSTAC will hold a conference call on Thursday, November 12, 2020, to discuss current NSTAC activities pertinent to Government cybersecurity initiatives and NS/EP priorities with senior Government officials. This meeting will include an open and closed session. During the open session, NSTAC members will: (1) Participate in a strategic discussion on promoting U.S. leadership in emerging information and communications technologies (ICT); (2) receive a status update from the NSTAC Communications Resiliency Subcommittee; and (3) receive a keynote address.

Basis for Closure: In accordance with section 10(d) of FACA and The Government in the Sunshine Act (5 U.S.C. 552b(c)(9)(B)), it has been determined that certain agenda items require closure, as the disclosure of the information that will be discussed would not be in the public interest.

The committee will meet in a closed session from 12:30 p.m. to 2:00 p.m. Participants will engage in discussions on key NS/EP communications topics, which may include strategic considerations for hardware and chipsets. The NSTAC will also discuss potential study topics for the upcoming work cycle. For these items, Government officials will share data with NSTAC members on ongoing NS/EP, cybersecurity, and communications resiliency initiatives across the public and private sectors. The information discussed will include specific vulnerabilities that affect the United States' national defense/homeland security posture and ICT risk mitigation strategies. The premature disclosure of this information to the public is likely to frustrate implementation of proposed Government action significantly. Therefore, this portion of the meeting is required to be closed pursuant to section 10(d) of FACA and The Government in the Sunshine Act (5 U.S.C. 552b(c)(9)(B)).

Sandra J. Benevides,
Designated Federal Officer, NSTAC, Cybersecurity and Infrastructure Security Agency, Department of Homeland Security.

[FR Doc. 2020-23835 Filed 10-27-20; 8:45 am]

BILLING CODE 9910-9P-P